DEPARTMENT OF HEALTH AND HUMAN SERVICES

Centers for Disease Control and Prevention

[30DAY-36-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: National Program of Cancer Registries—Cancer Surveillance System 0920-0469—Extension—National Center for Chronic Disease Prevention and Health Promotion (NCCDPHP), Centers for Disease Control and Prevention (CDC).

The American Cancer Society estimates that about 1.2 million Americans will be newly diagnosed with cancer and that about 8.2 million Americans are currently alive with a history of cancer. The National Institutes of Health estimates the cost of cancer is about $172 billion including ($61 billion) direct costs to treat cancer and ($111 billion) indirect costs in lost productivity due to illness and premature death.

In 2000, CDC implemented the National Program of Cancer Registries (NPCR)—Cancer Surveillance System (CSS) to collect, evaluate and disseminate cancer incidence data collected by population-based cancer registries. In 2002, CDC published United States Cancer Statistics—1999 Incidence which provided cancer statistics for 78% of the United States population from all cancer registries whose data met national data standards. Prior to this, at the national level, cancer incidence data were available for only 14% of the population of the United States.

With this expanded coverage of the U.S. population, it will now be possible to better describe geographic variation in cancer incidence throughout the country and provide incidence data on minority populations and rare cancers to further plan and evaluate state and national cancer control and prevention efforts.

Therefore, the CDC's NCCDPHP, Division of Cancer Prevention and Control, proposes to continue to aggregate existing cancer incidence data from states funded by the National Program of Cancer Registries into a national surveillance system.

These data are already collected and aggregated at the state level. Thus the additional burden on the states is small. Funded states are asked to continue to report data to CDC on an annual basis twelve months after the close of a diagnosis year and again at twenty-four months to obtain more complete incidence data and vital status from mortality data. The estimated annualized burden for this data collection is 126 hours.

Respondents | Number of respondents | Number of responses/respondent | Average burden/response (in hours)
State, Territorial, and District of Columbia Cancer Registries | 63 | 1 | 2

Dated: March 31, 2003.
Thomas Bartenfeld,
Acting Associate Director for Policy, Planning and Evaluation, Centers for Disease Control and Prevention.

[FR Doc. 03-8486 Filed 4-7-03; 8:45 am]

BILLING CODE 4163-18-P